FEDERAL DEPOSIT INSURANCE CORPORATION

Agency Information Collection Activities: Renewal of an Information Collection; Comment Request

AGENCY: Federal Deposit Insurance Corporation (FDIC).

ACTION: Notice and request for comment.

SUMMARY: The FDIC, as part of its continuing effort to reduce paperwork and respondent burden, invites the general public and other Federal agencies to take this opportunity to comment on the proposed renewal of an information collection, as required by the Paperwork Reduction Act of 1995 (44 U.S.C. chapter 35). Currently, the FDIC is soliciting comments concerning an information collection titled “Prompt Corrective Action.”

DATES: Comments must be submitted on or before June 27, 2005.

ADDRESSES: Interested parties are invited to submit written comments to the FDIC. All comments should refer to “Prompt Corrective Action, 3064-0115.” Comments may be submitted by any of the following methods:

• http://www.FDIC.gov/regulations/laws/federal/propose.html.

• E-mail: comments@FDIC.gov. Include “Prompt Corrective Action, 3064-0115” in the subject line of the message.

• Mail: Leneta G. Gregorie (202-898-3719), Counsel, Room MB-3082, Federal Deposit Insurance Corporation, 550 17th Street, NW., Washington, DC 20429.

• Hand Delivery: Comments may be hand-delivered to the guard station at the rear of the 17th Street Building (located on F Street), on business days between 7 a.m. and 5 p.m.

A copy of the comments may also be submitted to the OMB desk officer for the FDIC: Mark Menchik, Office of Information and Regulatory Affairs, Office of Management and Budget, New Executive Office Building, Room 3208, Washington, DC 20503, or by electronic mail to mmenchik@omb.eop.gov.

FOR FURTHER INFORMATION CONTACT: Leneta G. Gregorie, (202) 898-3719, or at the address identified above.

SUPPLEMENTARY INFORMATION: Proposal to renew the following currently approved collection of information:

Title: Prompt Corrective Action.

OMB Number: 3064-0115.

Frequency of Response: On occasion.

Affected Public: All insured financial institutions.

Estimated Number of Respondents: 19.

Estimated Number of Responses: 19.

Estimated Time per Response: 4 hours.

Estimated Total Annual Burden: 76 hours.

General Description of Collection: The prompt corrective action provisions in section 38 of the Federal Deposit Insurance Act (12 U.S.C. 1831o) permits and, in some cases requires, the Federal Deposit Insurance Corporation (FDIC) and other Federal banking agencies to take certain supervisory actions when FDIC-insured institutions fall within one of five capital categories. They also restrict or prohibit certain activities and require the submission of a capital restoration plan when an insured institution becomes undercapitalized.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's request to OMB for renewal of this collection. All comments will become a matter of public record.

Dated at Washington, DC this 25th day of April, 2005.
Federal Deposit Insurance Corporation
Robert E. Feldman,
Executive Secretary.

[FR Doc. 05-8520 Filed 4-27-05; 8:45 am]

BILLING CODE 6714-01-P